DEPARTMENT OF ENERGY

Federal Energy Regulatory Commission

Combined Notice of Filings

Take notice that the Commission has received the following Natural Gas Pipeline Rate and Refund Report filings:

Filings Instituting Proceedings

Docket Numbers: RP14-551-000.

Applicants: Columbia Gas Transmission, LLC.

Description: RAM 2014 to be effective 4/1/2014.

Filed Date: 2/28/14.

Accession Number: 20140228-5043.

Comments Due: 5 p.m. ET 3/12/14.

Docket Numbers: RP14-552-000.

Applicants: Columbia Gas Transmission, LLC.

Description: EPCA 2014 to be effective 4/1/2014.

Filed Date: 2/28/14.

Accession Number: 20140228-5045.

Comments Due: 5 p.m. ET 3/12/14.

Docket Numbers: RP14-553-000.

Applicants: Columbia Gas Transmission, LLC.

Description: TCRA 2014 to be effective 4/1/2014.

Filed Date: 2/28/14.

Accession Number: 20140228-5050.

Comments Due: 5 p.m. ET 3/12/14.

Docket Numbers: RP14-554-000.

Applicants: WBI Energy Transmission, Inc.

Description: 2014 Annual Fuel and Electric Power Reimbursement to be effective 4/1/2014.

Filed Date: 2/28/14.

Accession Number: 20140228-5051.

Comments Due: 5 p.m. ET 3/12/14.

Docket Numbers: RP14-555-000.

Applicants: Southern Star Central Gas Pipeline, Inc.

Description: Fuel Filing—Eff. April 1, 2014 to be effective 4/1/2014.

Filed Date: 2/28/14.

Accession Number: 20140228-5066.

Comments Due: 5 p.m. ET 3/12/14.

Docket Numbers: RP14-556-000.

Applicants: Portland Natural Gas Transmission System.

Description: Creditworthiness Revisions to be effective 4/1/2014.

Filed Date: 2/28/14.

Accession Number: 20140228-5071.

Comments Due: 5 p.m. ET 3/12/14.

Docket Numbers: RP14-557-000.

Applicants: Northern Natural Gas Company.

Description: 20140228 Black Hills Non-Conforming to be effective 4/1/2014.

Filed Date: 2/28/14.

Accession Number: 20140228-5073.

Comments Due: 5 p.m. ET 3/12/14.

Docket Numbers: RP14-558-000.

Applicants: Cheniere Creole Trail Pipeline, L.P.

Description: Transportation Retainage Adjustment to be effective 4/1/2014.

Filed Date: 2/28/14.

Accession Number: 20140228-5075.

Comments Due: 5 p.m. ET 3/12/14.

Docket Numbers: RP14-559-000.

Applicants: Colorado Interstate Gas Company, L.L.C.

Description: FL&U to be effective April 1, 2014 to be effective 4/1/2014.

Filed Date: 2/28/14.

Accession Number: 20140228-5095.

Comments Due: 5 p.m. ET 3/12/14.

Docket Numbers: RP14-560-000.

Applicants: KO Transmission Company.

Description: Transportation Retainage Adjustment Filing 2014 to be effective 4/1/2014.

Filed Date: 2/28/14.

Accession Number: 20140228-5114.

Comments Due: 5 p.m. ET 3/12/14.

Docket Numbers: RP14-561-000.

Applicants: Central Kentucky Transmission Company.

Description: RAM 2014 to be effective 4/1/2014.

Filed Date: 2/28/14.

Accession Number: 20140228-5116.

Comments Due: 5 p.m. ET 3/12/14.

Docket Numbers: RP14-562-000.

Applicants: TransColorado Gas Transmission Company L.

Description: TransColorado Gas Transmission Company LLC 2013 Annual Fuel Gas Reimbursement Percentage Report.

Filed Date: 2/28/14.

Accession Number: 20140228-5129.

Comments Due: 5 p.m. ET 3/12/14.

Docket Numbers: RP14-563-000.

Applicants: Tennessee Gas Pipeline Company, L.L.C.

Description: Fuel Tracker 2014 to be effective 4/1/2014.

Filed Date: 2/28/14.

Accession Number: 20140228-5130.

Comments Due: 5 p.m. ET 3/12/14.

Docket Numbers: RP14-564-000.

Applicants: Florida Gas Transmission Company, LLC.

Description: Fuel Filing on 2-28-14 to be effective 4/1/2014.

Filed Date: 2/28/14.

Accession Number: 20140228-5133.

Comments Due: 5 p.m. ET 3/12/14.

Docket Numbers: RP14-565-000.

Applicants: Transcontinental Gas Pipe Line Company.

Description: Trenton Woodbury Expansion to be effective 4/1/2014.

Filed Date: 2/28/14.

Accession Number: 20140228-5134.

Comments Due: 5 p.m. ET 3/12/14.

Docket Numbers: RP14-566-000.

Applicants: Dauphin Island Gathering Partners.

Description: Storm Surcharge Filing, no change in rate of Dauphin Island Gathering Partners.

Filed Date: 2/28/14.

Accession Number: 20140228-5136.

Comments Due: 5 p.m. ET 3/12/14.

Docket Numbers: RP14-567-000.

Applicants: Columbia Gas Transmission, LLC.

Description: OTRA Tariff Modification to be effective 4/1/2014.

Filed Date: 2/28/14.

Accession Number: 20140228-5137.

Comments Due: 5 p.m. ET 3/12/14.

Docket Numbers: RP14-568-000.

Applicants: Crossroads Pipeline Company.

Description: Crossroads Pipeline Company Annual Transportation Retainage Filing.

Filed Date: 2/28/14.

Accession Number: 20140228-5149.

Comments Due: 5 p.m. ET 3/12/14.

Docket Numbers: RP14-569-000.

Applicants: Millennium Pipeline Company, LLC.

Description: RAM 2014 to be effective 4/1/2014.

Filed Date: 2/28/14.

Accession Number: 20140228-5152.

Comments Due: 5 p.m. ET 3/12/14.

Docket Numbers: RP14-570-000.

Applicants: Cimarron River Pipeline, LLC.

Description: Fuel Tracker 2014 to be effective 4/1/2014.

Filed Date: 2/28/14.

Accession Number: 20140228-5156.

Comments Due: 5 p.m. ET 3/12/14.

Docket Numbers: RP14-571-000.

Applicants: Dominion Transmission, Inc.

Description: DTI—Allegheny Storage Project (CP12-72) Storage Service to be effective 4/1/2014.

Filed Date: 2/28/14.

Accession Number: 20140228-5163.

Comments Due: 5 p.m. ET 3/12/14.

Docket Numbers: RP14-572-000.

Applicants: Dominion Transmission, Inc.

Description: DTI—February 28, 2014 Negotiated Rate & Nonconforming SA to be effective 4/1/2014.

Filed Date: 2/28/14.

Accession Number: 20140228-5168.

Comments Due: 5 p.m. ET 3/12/14.

Docket Numbers: RP14-573-000.

Applicants: KPC Pipeline, LLC.

Description: KPC Fuel Reimbursement Adjustment to be effective 4/1/2014.

Filed Date: 2/28/14.

Accession Number: 20140228-5170.

Comments Due: 5 p.m. ET 3/12/14.

Docket Numbers: RP14-574-000.

Applicants: Crossroads Pipeline Company.

Description: Crossroads Pipeline Company Annual Report on Operational Transactions.

Filed Date: 2/28/14.

Accession Number: 20140228-5177.

Comments Due: 5 p.m. ET 3/12/14.

Docket Numbers: RP14-575-000.

Applicants: Columbia Gas Transmission, LLC.

Description: Columbia Gas Transmission, LLC Annual Report on Operational Transactions.

Filed Date: 2/28/14.

Accession Number: 20140228-5178.

Comments Due: 5 p.m. ET 3/12/14.

Docket Numbers: RP14-576-000.

Applicants: Columbia Gulf Transmission, LLC.

Description: Columbia Gulf Transmission, LLC Annual Report on Operational Transactions.

Filed Date: 2/28/14.

Accession Number: 20140228-5179.

Comments Due: 5 p.m. ET 3/12/14.

Docket Numbers: RP14-577-000.

Applicants: Hardy Storage Company, LLC.

Description: Hardy Storage Company, LLC Annual Report on Operational Transactions.

Filed Date: 2/28/14.

Accession Number: 20140228-5180.

Comments Due: 5 p.m. ET 3/12/14.

Docket Numbers: RP14-578-000.

Applicants: American Midstream (Midla), LLC.

Description: Midla Non-Conforming Agreements to be effective 3/1/2014.

Filed Date: 2/28/14.

Accession Number: 20140228-5184.

Comments Due: 5 p.m. ET 3/12/14.

Docket Numbers: RP14-579-000.

Applicants: Millennium Pipeline Company, LLC.

Description: Negotiated Rate Service Agmt—Amendment SW 27912 to be effective 4/1/2014.

Filed Date: 2/28/14.

Accession Number: 20140228-5188.

Comments Due: 5 p.m. ET 3/12/14.

Docket Numbers: RP14-580-000.

Applicants: Iroquois Gas Transmission System, L.P.

Description: 02/28/14 Negotiated Rates—JP Morgan Ventures Energy Corp (HUB) 6025-89 to be effective 2/27/2014.

Filed Date: 2/28/14.

Accession Number: 20140228-5205.

Comments Due: 5 p.m. ET 3/12/14.

Docket Numbers: RP14-581-000.

Applicants: Iroquois Gas Transmission System, L.P.

Description: 02/28/14 Negotiated Rates—Trafigura AG (HUB) 7445-89 to be effective 2/27/2014.

Filed Date: 2/28/14.

Accession Number: 20140228-5208.

Comments Due: 5 p.m. ET 3/12/14.

Docket Numbers: RP14-582-000.

Applicants: Gulf South Pipeline Company, LP.

Description: Enhancement to PXS Service to be effective 4/1/2014.

Filed Date: 2/28/14.

Accession Number: 20140228-5210.

Comments Due: 5 p.m. ET 3/12/14.

Docket Numbers: RP14-583-000.

Applicants: MarkWest Pioneer, L.L.C.

Description: MarkWest Pioneer—Quarterly FRP Filing to be effective 4/1/2014.

Filed Date: 2/28/14.

Accession Number: 20140228-5216.

Comments Due: 5 p.m. ET 3/12/14.

Docket Numbers: RP14-584-000.

Applicants: Northern Natural Gas Company.

Description: 20140228 Negotiated Rate to be effective 3/1/2014.

Filed Date: 2/28/14.

Accession Number: 20140228-5220.

Comments Due: 5 p.m. ET 3/12/14.

Docket Numbers: RP14-585-000.

Applicants: Millennium Pipeline Company, LLC.

Description: Negotiated Rate & Non-Conforming Agreement—WPX, Columbia, SW to be effective 4/1/2014.

Filed Date: 2/28/14.

Accession Number: 20140228-5251.

Comments Due: 5 p.m. ET 3/12/14.

Docket Numbers: RP14-586-000.

Applicants: Dominion Cove Point LNG, LP.

Description: DCP—2014 Annual EPCA to be effective 4/1/2014.

Filed Date: 2/28/14.

Accession Number: 20140228-5258.

Comments Due: 5 p.m. ET 3/12/14.

Docket Numbers: RP14-587-000.

Applicants: Dominion Cove Point LNG, LP.

Description: DCP—2014 Annual Fuel Retainage to be effective 4/1/2014.

Filed Date: 2/28/14.

Accession Number: 20140228-5262.

Comments Due: 5 p.m. ET 3/12/14.

Docket Numbers: RP14-588-000.

Applicants: Transcontinental Gas Pipe Line Company.

Description: LG-S Rate Schedule Revision to be effective 4/1/2014.

Filed Date: 2/28/14.

Accession Number: 20140228-5303.

Comments Due: 5 p.m. ET 3/12/14.

Docket Numbers: RP14-589-000.

Applicants: Iroquois Gas Transmission System, L.P.

Description: 02/28/14 Negotiated Rates—Tenaska Gas Storage, LLC (HUB) 1175-89 to be effective 2/27/2014.

Filed Date: 3/3/14.

Accession Number: 20140303-5000.

Comments Due: 5 p.m. ET 3/17/14.

Docket Numbers: RP14-590-000.

Applicants: Rockies Express Pipeline LLC.

Description: Neg Rate 2014-02-28 Conoco Phillips, BP to be effective 3/1/2014.

Filed Date: 3/3/14.

Accession Number: 20140303-5001.

Comments Due: 5 p.m. ET 3/17/14.

Docket Numbers: RP14-592-000.

Applicants: Equitrans, L.P.

Description: Revised Formula-Based Negotiated Rates to be effective 3/1/2014.

Filed Date: 3/3/14.

Accession Number: 20140303-5016.

Comments Due: 5 p.m. ET 3/17/14.

Docket Numbers: RP14-593-000.

Applicants: Iroquois Gas Transmission System, L.P.

Description: 03/03/14 Negotiated Rates—JP Morgan Ventures Energy Corp (HUB) 6025-89 to be effective 3/1/2014.

Filed Date: 3/3/14.

Accession Number: 20140303-5017.

Comments Due: 5 p.m. ET 3/17/14.

Docket Numbers: RP14-594-000.

Applicants: Midwestern Gas Transmission Company.

Description: Negotiated Rate PAL Agreements—BP Canada Energy Marketing & Exelon Generation to be effective 3/3/2014.

Filed Date: 3/3/14.

Accession Number: 20140303-5018.

Comments Due: 5 p.m. ET 3/17/14.

Docket Numbers: RP14-595-000.

Applicants: Iroquois Gas Transmission System, L.P.

Description: 03/03/14 Negotiated Rates—Trafigura AG (HUB) 7445-89 to be effective 2/28/2014.

Filed Date: 3/3/14.

Accession Number: 20140303-5019.

Comments Due: 5 p.m. ET 3/17/14.

Docket Numbers: RP14-596-000.

Applicants: Energy West Development, Inc.

Description: LAUF Adjustment Filing to be effective 4/2/2014.

Filed Date: 3/3/14.

Accession Number: 20140303-5024.

Comments Due: 5 p.m. ET 3/17/14.

Docket Numbers: RP14-597-000.

Applicants: Midwestern Gas Transmission Company.

Description: Negotiated Rate PAL Agreement—Northern Indiana Public Service Company to be effective 3/3/2014.

Filed Date: 3/3/14.

Accession Number: 20140303-5028.

Comments Due: 5 p.m. ET 3/17/14.

Docket Numbers: RP14-598-000.

Applicants: Midwestern Gas Transmission Company.

Description: Negotiated Rate PAL Agreement—Spark Energy Gas, L.P. to be effective 3/3/2014.

Filed Date: 3/4/14.

Accession Number: 20140304-5001.

Comments Due: 5 p.m. ET 3/17/14.

Docket Numbers: RP14-599-000.

Applicants: Gulf South Pipeline Company, LP.

Description: Neg Rate Agmt Filing (Tenaska 42095) to be effective 3/3/2014.

Filed Date: 3/4/14.

Accession Number: 20140304-5009.

Comments Due: 5 p.m. ET 3/17/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-526-002.

Applicants: Gulf South Pipeline Company, LP.

Description: Request to Postpone Effectiveness of Certain Tariff Records.

Filed Date: 2/28/14.

Accession Number: 20140228-5042.

Comments Due: 5 p.m. ET 3/12/14.

Docket Numbers: RP14-560-001.

Applicants: KO Transmission Company.

Description: Amendment to Docket No. RP14-560 to be effective 4/1/2014.

Filed Date: 2/28/14.

Accession Number: 20140228-5263.

Comments Due: 5 p.m. ET 3/12/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 4, 2014.
Nathaniel J. Davis, Sr.,
Deputy Secretary.

[FR Doc. 2014-05095 Filed 3-7-14; 8:45 am]

BILLING CODE 6717-01-P